FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011786-002.

Title: Zim/Great Western Agreement.

Parties: Zim Israel Navigation Co., Ltd. and Great Western Steamship Company.

Synopsis: The amendment extends the term of the agreement through May 31, 2004.

Agreement No.: 011872.

Title: CSAV Group/CMA CGM Cross Space Charter, Sailing and Cooperative Working Agreement.

Parties: Compania Sud Americana de Vapores S.A., Companhia Libra de Navegacao, Montemar Maritima S.A., and CMA CGM, S.A.

Synopsis: The agreement would authorize the parties to share vessel space on their services between United States East Coast ports and ports in Argentina, Brazil, Paraguay, Uruguay, and Venezula.

Agreement No.: 011873.

Title: FOML/PONL Space Charter Agreement.

Parties: Fesco Ocean Management Limited and P&O Nedlloyd Limited.

Synopsis: The proposed agreement would authorize P&O to charter space to Fesco on an as-needed, as-available basis in the trade from United States ports to Busan, Korea.

Agreement No.: 200233-014.

Title: Packer Avenue Lease and Operating Agreement.

Parties: Philadelphia Regional Port Authority and Astro Holdings, Inc.

Synopsis: The modification makes adjustments in the lease terms occasioned by the installation of new cranes at the Parker Avenue Terminal.

By Order of the Federal Maritime Commission.
Dated: March 19, 2004.
Bryant L. VanBrakle,
Secretary.

[FR Doc. 04-6616 Filed 3-23-04; 8:45 am]

BILLING CODE 6730-01-P